DEPARTMENT OF STATE

[Public Notice 3510]

Bureau of Educational and Cultural Affairs; Extension to the Deadline for the Wye River People-to-People Exchange Program

ACTION: Notice.

SUMMARY: Due to the Department's interest in providing opportunities for a broad range of organizations to apply for grants, the deadline for the Wye River People-to-People Exchange Program has been extended from January 5, 2001, to April 6, 2001.

ADDITIONAL INFORMATION: For additional information, U.S. organizations should contact Thomas Johnston at 202-619-5325 or email tjohnsto@pd.state.gov. Israeli organizations or organizations located in Gaza should contact the Programs and Exchanges Office, U.S. Embassy, Tel Aviv, at 03-516-3210 or email p-e@usembassy-israel.org.il.

Palestinian organizations located in the West Bank should contact the Public Affairs Office, U.S. Consulate General, Jerusalem, at 02-622-7207 or email peoplejeru@pd.state.gov.

The Wye River People-to-People Exchange Program was announced in the Federal Register on September 21, 2000.

Dated: December 8, 2000.
William B. Bader,
Assistant Secretary for Educational and Cultural Affairs, U.S. Department of State.

[FR Doc. 00-31910 Filed 12-13-00; 8:45 am]

BILLING CODE 4710-05-U